DEPARTMENT OF STATE

[Public Notice 11096]

Notice of Information Collection Under OMB Emergency Review: Request To Change End-User, End-Use and/or Destination of Hardware

ACTION: Notice of request for emergency OMB approval and public comment.

SUMMARY: The Department of State has submitted the information collection request described below to the Office of Management and Budget (OMB) for review and approval in accordance with the emergency review procedures of the Paperwork Reduction Act of 1995. The purpose of this notice is to allow for public comment from all interested individuals and organizations. Emergency review and approval of this collection has been requested from OMB by April 30, 2020. If granted, the emergency approval is only valid for 180 days. The Department plans to follow this emergency request with a submission for a 3 year approval through OMB's normal PRA clearance process.

DATES: All public comments must be received by April 29, 2020.

ADDRESSES: Direct any comments on this emergency request to both the Department of State Desk Officer in the Office of Information and Regulatory Affairs at the Office of Management and Budget (OMB) and to The Bureau of Political and Military Affairs, The Directorate of Defense Trade Controls.

You may submit comments by the following methods:

• Web: Persons with access to the internet may comment on this notice by going to www.Regulations.gov. You can search for the document by entering “Docket Number: DOS-2020-0016” in the Search field. Then click the “Comment Now” button and complete the comment form.

• Email: Andrea Battista battistaal@state.gov.

You must include Emergency Submission Comment on “Request to Change End-User, End-Use and/or Destination of Hardware” in the subject line of your message.

• Email: oira_submission@omb.eop.gov.

You must include the DS form number (if applicable), information collection title, and the OMB control number in any correspondence.

FOR FURTHER INFORMATION CONTACT: Direct requests for additional information regarding the collection listed in this notice, including requests for copies of the proposed collection instrument and supporting documents to Andrea Battista, battistaal@state.gov, who may be reached on 202-663-3136.

SUPPLEMENTARY INFORMATION:

• Title of Information Collection: Request to Change End-User, End-Use and/or Destination of Hardware.

• OMB Control Number: 1405-0173.

• Type of Request: Emergency Review.

• Originating Office: Directorate of Defense Trade Controls (DDTC).

• Form Number: DS-6004.

• Respondents: Business or Nonprofit Organizations.

• Estimated Number of Respondents: 1,563.

• Estimated Number of Responses: 1,563.

• Average Time Per Response: 1 hour.

• Total Estimated Burden Time: 1,563.

• Frequency: On occasion.

• Obligation to respond: Voluntary.

We are soliciting public comments to permit the Department to:

• Evaluate whether the proposed information collection is necessary for the proper functions of the Department.

• Evaluate the accuracy of our estimate of the time and cost burden of this proposed collection, including the validity of the methodology and assumptions used.

• Enhance the quality, utility, and clarity of the information to be collected.

• Minimize the reporting burden on those who are to respond, including the use of automated collection techniques or other forms of information technology.

Please note that comments submitted in response to this Notice are public record. Before including any detailed personal information, you should be aware that your comments as submitted, including your personal information, will be available for public review.

Abstract of Proposed Collection

The Request to Change End-User, End-Use and/or Destination of Hardware information collection is used to request DDTC approval prior to any sale, transfer, transshipment, or disposal, whether permanent or temporary, of classified or unclassified defense articles to any end-user, end-use or destination other than as stated on a license or other approval.

Methodology

Applicants are referred to ITAR 123.9 for guidance on information to submit regarding the request to change end-user, end-use and/or destination of hardware. A DS-6004 may be submitted electronically through DDTC's case management system, The Defense Export Control and Compliance System (DECCS).

Neal Kringel,
Director of Management, Directorate of Defense Trade Controls, Department of State.

[FR Doc. 2020-09037 Filed 4-28-20; 8:45 am]

BILLING CODE 4710-25-P